DEPARTMENT OF THE INTERIOR

National Park Service

[NPS-WASO-NAGPRA-13892; PPWOCRADN0-PCU00RP14.R50000]

Notice of Inventory Completion: U.S. Department of the Interior, National Park Service, Tumacacori National Historical Park, Tumacacori, AZ; Correction

AGENCY: National Park Service, Interior.

ACTION: Notice; correction.

SUMMARY: The U.S. Department of the Interior, National Park Service, Tumacacori National Historical Park has corrected an inventory of human remains and associated funerary objects published in a Notice of Inventory Completion in the Federal Register on July 17, 2009. This notice corrects the number of associated funerary objects. Transfer of control of the items in this correction notice has occurred.

ADDRESSES: Bob Love, Superintendent, Tumacacori National Historical Park, P.O. Box 8067, Tumacacori, AZ 85640, telephone (520) 398-2341 Ext. 52, email bob_love@nps.gov.

SUPPLEMENTARY INFORMATION: Notice is here given in accordance with the Native American Graves Protection and Repatriation Act (NAGPRA), 25 U.S.C. 3003, of the correction of an inventory of human remains and associated funerary objects under the control of Tumacacori National Historical Park, Tumacacori, AZ. The human remains and associated funerary objects were removed from San Miguel de Guevavi Mission, Santa Cruz County, AZ.

This notice is published as part of the National Park Service's administrative responsibilities under NAGPRA, 25 U.S.C. 3003(d)(3). The determinations in this notice are the sole responsibility of the Superintendent, Tumacacori National Historical Park.

This notice corrects the number of associated funerary objects published in a Notice of Inventory Completion in the Federal Register (74 FR 34775-34776, July 17, 2009). After publication, one additional associated funerary object was found. Transfer of control of the items in this correction notice has occurred.

Correction

In the Federal Register (74 FR 34775-34776, July 17, 2009), the following paragraph is inserted after paragraph three:

In 1947, one tinkler necklace was removed from a burial at San Miguel de Guevavi mission in Santa Cruz County, AZ by Clifford Burdick and was donated to the park. The human remains were removed from the site in 1991 and were described in a Notice of Intended Disposition published in a newspaper of general circulation in July 2009. The remains and object are from Mission Period contexts within a Jesuit church compound. No ceramic cremation vessels were found, indicating that the remains are historic burials.

In the Federal Register (74 FR 34775-34776, July 17, 2009), paragraph nine, sentence two is corrected by substituting the following sentence:

Officials of Tumacacori National Historical Park also have determined that, pursuant to 25 U.S.C. 3001 (3)(A), the 33 objects described above are reasonably believed to have been placed with or near individual human remains at the time of death or later as part of the death rite or ceremony.

Additional Requestors and Disposition

Transfer of control of the human remains and associated funerary objects occurred after the 30 day waiting period expired for the original July 17, 2009 Notice of Inventory Completion. For questions related to this notice, contact Bob Love, Superintendent, Tumacacori National Historical Park, P.O. Box 8067, Tumacacori, AZ 85640, telephone (520) 398-2341 Ext. 52, email bob_love@nps.gov.

Tumacacori National Historical Park is responsible for notifying the Ak Chin Indian Community of the Maricopa (Ak Chin) Indian Reservation, Arizona; Fort Sill Apache Tribe of Oklahoma; Gila River Indian Community of the Gila River Indian Reservation, Arizona; Hopi Tribe of Arizona; Jicarilla Apache Nation, New Mexico; Mescalero Apache Tribe of the Mescalero Reservation, New Mexico; Pascua Yaqui Tribe of Arizona; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; and Zuni Tribe of the Zuni Reservation, New Mexico that this notice has been published.

Dated: August 21, 2013.
Sherry Hutt,
Manager, National NAGPRA Program.

[FR Doc. 2013-23800 Filed 9-27-13; 8:45 am]

BILLING CODE 4312-50-P